NUCLEAR REGULATORY COMMISSION

[Docket No. 72-09; NRC-2016-0036]

Fort St. Vrain Independent Spent Fuel Storage Installation

AGENCY: Nuclear Regulatory Commission.

ACTION: Environmental assessment and finding of no significant impact; issuance.

SUMMARY: The U.S. Nuclear Regulatory Commission (NRC) is considering a license amendment request for the Special Nuclear Materials License SNM-2504 for the Fort St. Vrain (FSV) independent spent fuel storage installation (ISFSI) located in Weld County, Colorado. The NRC staff is issuing an environmental assessment (EA) and finding of no significant impact (FONSI) associated with the proposed action.

DATES: The EA and FONSI referenced in this document are available on February 23, 2016.

ADDRESSES: Please refer to Docket ID NRC-2016-0036 when contacting the NRC about the availability of information regarding this document. You may obtain publicly-available information related to this document using any of the following methods:

• Federal Rulemaking Web Site: Go to http://www.regulations.gov and search for Docket ID NRC-2016-0036. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at: 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Jean Trefethen, Office of Nuclear Material Safety and Safeguards, U.S. Nuclear Regulatory Commission, Washington, DC 20555-0001; telephone: 301-415-0867, email: Jean.Trefethen@nrc.gov.

SUPPLEMENTARY INFORMATION:

I. Introduction

The NRC is considering a license amendment request for Special Nuclear Materials License Number SNM-2504 for the FSV ISFSI located in Weld County, Colorado (ADAMS Accession Nos.: ML15069A007, ML15084A014, and ML15331A359, respectively). The applicant, the U.S. Department of Energy (DOE) Idaho Operations Office, is proposing to amend Technical Specifications (TS) 3.3.1, “Seal Leak Rate,” to revise the response time to complete some of the corrective actions in TS 3.3.1 if the leak rate limit is exceeded. Also proposed is: (i) Addition of Section 5.5.5, “Aging Management Program,” to the TS Table of Contents of Appendix A to license SNM-2504, (ii) clarification to language in Item 6 of Section 5.5.2, “Essential Programs Control Program,” and (iii) addition of a notation that the license was renewed. The NRC staff has prepared a final EA as part of its review of this proposed license amendment in accordance with the requirements in part 51 of title 10 of the Code of Federal Regulations (10 CFR). Based on the final EA, the NRC has determined that a FONSI is appropriate. The NRC is also conducting a safety evaluation of the proposed license amendment pursuant to 10 CFR part 72, “Licensing Requirements for the Independent Storage of Spent Nuclear Fuel, High-Level Radioactive Waste, and Reactor-Related Greater-Than-Class C Waste,” and the results will be documented in a separate Safety Evaluation Report (SER). If DOE's request is approved, the NRC will issue the license amendment following publication of this final EA and FONSI and completion of the SER.

II. Final Environmental Assessment Summary

The irradiated fuel in the ISFSI is contained in fuel storage containers (FSC), which are sealed with double metal O-ring seals between the FSC body and the lid. TS 3.3.1 in Appendix A of license SNM-2504 requires that the FSC or storage well seal leakage rate not exceed 1 × 10³ reference cubic centimeters per second (ref-cm³/s). The TS requires the licensee to test the leak rate of one FSC from each vault every 5 years. The TS also calls for specific corrective actions to be performed within a specified amount of time if the leak rate limit is exceeded for one or two seals on FSCs or storage wells. If approved, the proposed license amendment would allow DOE to revise the response time to complete the following corrective actions in TS 3.3.1 if the leak rate limit is exceeded: (i) Lengthen the response time for completing corrective actions A.1.1, A.1.2.1, and A.1.2.2 from seven days to 21 days, and (ii) lengthen the response time for completing corrective action A.2 from 30 days to 45 days. In addition, the amendment would include the following changes that are administrative in nature: (i) addition of Section 5.5.5, “Aging Management Program,” to the TS Table of Contents of Appendix A to license SNM-2504, (ii) clarification to language in item 6 of section 5.5.2, “Essential Programs Control Program,” and (iii) addition of a notation that the license was renewed. As documented in the EA, this portion of the proposed action that includes changes that are administrative in nature meets the categorical exclusion provision in 10 CFR 51.22(c)(11).

The NRC has assessed the potential environmental impacts associated with the proposed action of amending SNM-2504 TS 3.3.1, as well as the no-action alternative, and has documented the results in the final EA (ADAMS Accession No. ML16028A407). The NRC staff performed its environmental review in accordance with the requirements in 10 CFR part 51. In conducting the environmental review, the NRC considered information in the license amendment application; information in the responses to the NRC's requests for additional information (RAIs); and communications with DOE, the Colorado State Historic Preservation Office, the U.S. Fish and Wildlife Service, and the Colorado Department of Public Health and Environment.

As documented in the EA, the NRC staff concluded that the proposed action will not authorize or result in changes to licensed operations, land-disturbing activities, or changes in the types, characteristics, or quantities of radiological or non-radiological effluents released into the environment from the ISFSI. The staff also concluded that the radiological or non-radiological impacts from approval of the license amendment request would be small, and the proposed action would not significantly contribute to cumulative impacts. In addition, the staff does not expect that the proposed action would adversely affect any offsite population and, thus, no special circumstances were identified. The Colorado State Historic Preservation Office concurred with the NRC's determination that the proposed action would not affect historic properties, and the U.S. Fish and Wildlife Service concurred with the NRC's determination that the proposed action would not affect listed species or critical habitats. Furthermore, the NRC determined that the proposed action is more favorable than the no-action alternative (denial of the license amendment request), which would require DOE to complete the required corrective actions within the currently specified response times. Therefore, the NRC concluded that the proposed action will not result in a significant effect on the quality of the human environment.

III. Finding of No Significant Impact

Based on its review of the proposed action, in accordance with the requirements in 10 CFR part 51, the NRC has concluded that the proposed action, amendment of NRC Special Nuclear Materials License No. SNM-2504 for the FSV ISFSI located in Weld County, Colorado, will not significantly affect the quality of the human environment. Therefore, the NRC has determined, pursuant to 10 CFR 51.31, that preparation of an environmental impact statement is not required for the proposed action and a FONSI is appropriate.

Dated at Rockville, Maryland, this 16th day of February 2016.
For the Nuclear Regulatory Commission.
Craig G. Erlanger,
Acting Director, Division of Fuel Cycle Safety, Safeguards, and Environmental Review, Office of Nuclear Material Safety and Safeguards.

[FR Doc. 2016-03810 Filed 2-22-16; 8:45 am]

BILLING CODE 7590-01-P